DEPARTMENT OF TRANSPORTATION

Federal Railroad Administration

[Docket Number FRA-2004-20000]

Petition for Waiver of Compliance

Under part 211 of title 49 Code of Federal Regulations (CFR), this document provides the public notice that on October 10, 2019, Dallas Area Rapid Transit (DART) petitioned the Federal Railroad Administration (FRA) to extend its waiver of compliance from certain provisions of the Federal railroad safety regulations contained at 49 CFR parts 229 and 234. FRA assigned the petition Docket Number FRA-2004-20000.

Specifically, DART seeks an extension of the terms and conditions of its current waiver of compliance from the provisions of 49 CFR 229.125, Headlights and auxiliary lights, and 49 CFR 234.105, Activation failure. This waiver was initially granted in 2005 and extended in 2010 and 2015, to allow operation of DART's rail-fixed guideway public transit lines that share a “limited connection” with the general railroad system, specifically with the Dallas Garland and Northeastern Railroad. DART's petition states that no modifications or changes have occurred since the waiver was initially granted in 2005. The petition also states that DART “has no record of any accidents or safety-related incidents that occurred in these areas covered by the regulations where these waivers are being requested.”

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal holidays.

Communications received by December 12, 2019 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-23450 Filed 10-25-19; 8:45 am]

BILLING CODE 4910-06-P